DEPARTMENT OF HEALTH AND HUMAN SERVICES

Health Resources and Services Administration

Agency Information Collection Activities: Proposed Collection: Public Comment Request Information Collection Request Title: Ryan White HIV/AIDS Program Recipient Compilation of Best Practice Strategies and Interventions, OMB No. 0906-xxxx-New

AGENCY: Health Resources and Services Administration (HRSA), Department of Health and Human Services.

ACTION: Notice.

SUMMARY: In compliance with the requirement for opportunity for public comment on proposed data collection projects of the Paperwork Reduction Act of 1995, HRSA announces plans to submit an Information Collection Request (ICR), described below, to the Office of Management and Budget (OMB). Prior to submitting the ICR to OMB, HRSA seeks comments from the public regarding the burden estimate, below, or any other aspect of the ICR.

DATES: Comments on this ICR should be received no later than August 19, 2019.

ADDRESSES: Submit your comments to paperwork@hrsa.gov or mail the HRSA Information Collection Clearance Officer, Room 14N136B, 5600 Fishers Lane, Rockville, Maryland 20857.

FOR FURTHER INFORMATION CONTACT: To request more information on the proposed project or to obtain a copy of the data collection plans and draft instruments, email paperwork@hrsa.gov or call Lisa Wright-Solomon, the HRSA Information Collection Clearance Officer, at (301) 443-1984.

SUPPLEMENTARY INFORMATION: When submitting comments or requesting information, please include the information request collection title for reference.

Information Collection Request Title: Ryan White HIV/AIDS Program (RWHAP) Recipient Compilation of Best Practice Strategies and Interventions, OMB No. 0906-xxxx-New.

Abstract: HRSA's Ryan White HIV/AIDS Program (RWHAP) funds and coordinates with cities, states, and local clinics/community-based organizations to deliver efficient and effective HIV care, treatment, and support to low-income people with HIV. Nearly two-thirds of clients (patients) live at or below 100 percent of the federal poverty level and approximately three-quarters of RWHAP clients are racial/ethnic minorities. Since 1990, the RWHAP has developed a comprehensive system of safety net providers who deliver high quality direct health care and support services to over half a million people living with HIV—more than 50 percent of all people living with diagnosed HIV in the United States. HRSA's HIV/AIDS Bureau (HAB) is developing a comprehensive, web-based compilation of RWHAP recipient and subrecipient best practice strategies and interventions. When completed, the online recipient compilation will be housed on TargetHIV.org (HRSA HAB's technical assistance site for recipients and subrecipients) and structured to allow programs to easily search and identify RWHAP best practice strategies and interventions for implementation. Recipients and subrecipients may voluntarily complete a submission form, also housed on TargetHIV.org, when they have a best practice strategy or intervention to share. Strategies and interventions that meet certain criteria will be incorporated into the online compilation.

The project team has developed a draft submission form and criteria for the types of strategies and interventions to be included in the compilation based on: (1) The quality and relevance of the approach to the RWHAP; (2) the level of feasibility, replicability, and sustainability; and (3) the quality of evidence that supports the approach's results.

Specifically, this information collection request involves three forms of data collection as described below.

1. Pre-Submission Screening Form: Through extensive outreach, the project team expects up to 70 recipients and subrecipients to express interest in submission. They will be asked four screening questions to determine whether they are eligible for inclusion in the compilation.

2. Submission Form: Recipients and subrecipients that screen eligible will then complete a submission form describing their strategy or intervention, including service delivery model, target population, expected or achieved outcomes, and resource requirements. The project team will score the submissions based on the established criteria.

3. Site Visit Discussion Guide: The project team will conduct up to 30 site visits to test the criteria and gather feedback on the submission form and compilation. The half-day site visits will involve individual or small group discussions with program staff involved in implementation (e.g., program managers, direct service providers, and evaluators). The project team will then revise the submission form, criteria, and compilation template based on feedback.

Need and Proposed Use of the Information: The purpose of this data collection effort is for HRSA contractors to assess the review criteria being used to systematically identify and select RWHAP-funded best practice strategies or interventions that demonstrate impact across the HIV care continuum for the online compilation.

Assessing the review criteria will allow HRSA to obtain important information from recipients and determine if the strategies or interventions shared via the submission form are effective in improving outcomes across the HIV care continuum. Strategies and interventions that meet the review criteria verified by HRSA contractors and approved by HRSA program staff through this data collection will be considered best practices and made available through the online compilation for consideration, adaptation, and replication by other HIV programs. In addition, the best practices will support peer exchange to resolve problems impacting HIV care and treatment and eliminating disparities in health outcomes.

Likely Respondents: RWHAP recipients and subrecipients that voluntarily submit a best practice strategy or intervention will participate in the data collection. The project team expects that up to 70 recipients and subrecipients will complete the screening form and 50 will screen eligible and complete the full submission form. For the site visits, the project team will strategically select 30 sites from the universe of submitted eligible initiatives, ensuring a range of scores and representativeness of factors such as Census region, proposed strategy/intervention outcome, priority population, and the type of agency or provider implementing the strategy or intervention.

Burden Statement: Burden in this context means the time expended by persons to generate, maintain, retain, disclose, or provide the information requested. This includes the time needed to review instructions; to develop, acquire, install, and utilize technology and systems for the purpose of collecting, validating, and verifying information, processing and maintaining information, and disclosing and providing information; to train personnel and to be able to respond to a collection of information; to search data sources; to complete and review the collection of information; and to transmit or otherwise disclose the information. The total annual burden hours estimated for this ICR are summarized in the table below.

Total Estimated Annualized Burden Hours
Form name | Number of respondents | Number of responses per respondent | Total responses | Average burden per response (in hours) | Total burden hours
Pre-Submission Screening Form | 70 | 1 | 70 | 0.08 | 5.60
Submission Form | 50 | 1 | 50 | 3.00 | 150.00
Site Visit Discussion Guide | * 120 | 1 | 120 | 1.00 | 120.00
Program Manager Interview | 30 | 1 | 30 | 1.00 | 30.00
Direct Service Provider Interview | 60 | 1 | 60 | 1.00 | 60.00
Evaluator Interview | 30 | 1 | 30 | 1.00 | 30.00
Total | ** 240 |  | 240 |  | 275.60
* For a total of 120 hours, each of the 30 site visits will include one-hour interviews with a program manager (30 hours), up to two 1-hour interviews with direct service providers (60 hours), and an 1-hour interview with an evaluator (30 hours).'
** The total number of respondents is 240 as comprised by the number of respondents for the pre-submission screening form (70), the submission form (50), and the site visit discussion guide (120).

HRSA specifically requests comments on: (1) The necessity and utility of the proposed information collection for the proper performance of the agency's functions; (2) the accuracy of the estimated burden; (3) ways to enhance the quality, utility, and clarity of the information to be collected; and (4) the use of automated collection techniques or other forms of information technology to minimize the information collection burden.

Maria G. Button,
Director, Division of the Executive Secretariat.

[FR Doc. 2019-12960 Filed 6-18-19; 8:45 am]

BILLING CODE 4165-15-P